DEPARTMENT OF THE INTERIOR

Fish and Wildlife Service

[FWS-R3-R-2013-N238; FXRS1265030000-145-FF03R06000]

Big Muddy National Fish and Wildlife Refuge; Final Comprehensive Conservation Plan and Finding of No Significant Impact for Environmental Assessment

AGENCY: Fish and Wildlife Service, Interior.

ACTION: Notice of availability.

SUMMARY: We, the U.S. Fish and Wildlife Service (Service), announce the availability of a final comprehensive conservation plan (CCP) and finding of no significant impact (FONSI) for the environmental assessment (EA) for Big Muddy National Fish and Wildlife Refuge, which is authorized within the 20 counties that lie along the Missouri River from Kansas City to St. Louis, Missouri. In this final CCP, we describe how we intend to manage the refuge for the next 15 years.

ADDRESSES: You will find the final CCP and the EA/FONSI on the planning Web site at www.fws.gov/midwest/planning/bigmuddyccp/. A limited number of hard copies and compact discs are available. You may request one by any of the following methods:

• Email: r3planning@fws.gov. Include “Big Muddy Refuge—Final CCP” in the subject line of the message.

• U.S. Mail: Conservation Planning, U.S. Fish and Wildlife Service, 5600 American Blvd. West, Suite 990, Bloomington, MN 55437.

FOR FURTHER INFORMATION CONTACT: Thomas Larson, 612-713-5430.

SUPPLEMENTARY INFORMATION:

Introduction

With this notice, we continue the CCP process for Big Muddy National Fish and Wildlife Refuge. We began the CCP process for Big Muddy Refuge by publishing a notice of intent in the Federal Register (72 FR 27587) on May 16, 2007. For more about the initial process and the history of the refuge, see that notice.

We released the EA and draft CCP to the public, announcing and requesting comments in a notice of availability (78 FR 60306) on October 1, 2013. The 30-day comment period was to end October 31, 2013, but was extended for an additional 3 weeks, ending on November 20, 2013, due to the Federal government shutdown that occurred from October 1 to 16. A summary of public comments and the agency responses is included in the final CCP.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The final CCP may be found at www.fws.gov/midwest/planning/bigmuddyccp/. The final CCP includes detailed information about the planning process, the refuge, issues, and management alternative selected. The Web site also includes an EA and FONSI, prepared in accordance with the National Environmental Policy Act (NEPA) (43 U.S.C. 4321 et seq.). The EA/FONSI includes discussion of three alternative refuge management options. The Service's selected alternative is reflected in the final CCP. The selected alternative delineates and includes management direction for three urban and two rural river reaches. Within all existing and future refuge units, the alternative calls for restoring hydrology, reconnecting the Missouri River and tributaries to their floodplains, returning or maintaining natural cover types, and providing a specified standard level of visitor services. This alternative also emphasizes biological inventory and monitoring and additional visitor services and facilities within two of the five river reaches. One reach centered on Columbia, Missouri, receives the greatest emphasis. A detailed description of objectives and actions included in this selected alternative is found in chapter 4 of the final CCP.

Dated: February 11, 2014.
Thomas O. Melius,
Regional Director.

Editorial Note: This document was received for publication by the Office of Federal Register on September 4, 2014.

[FR Doc. 2014-21420 Filed 9-8-14; 8:45 am]

BILLING CODE 4310-55-P